COMMITTEE FOR PURCHASE FROM PEOPLE WHO ARE BLIND OR SEVERELY DISABLED

Procurement List; Additions and Deletions

AGENCY: Committee for Purchase From People Who Are Blind or Severely Disabled.

ACTION: Additions to and deletions from the Procurement List.

SUMMARY: This action adds products and services to the Procurement List that will be provided by nonprofit agency employing persons who are blind or have other severe disabilities, and deletes products from the Procurement List previously furnished by such agencies.

DATES: Date added to the Procurement List: December 31, 2017.

ADDRESSES: Committee for Purchase From People Who Are Blind or Severely Disabled, 1401 S. Clark Street, Suite 715, Arlington, Virginia 22202-4149.

FOR FURTHER INFORMATION CONTACT: Amy B. Jensen, telephone: (703) 603-7740, fax: (703) 603-0655, or email CMTEFedReg@AbilityOne.gov.

SUPPLEMENTARY INFORMATION:

Additions

On 7/1/2016 (81 FR, No. 127), 10/20/2017 (82 FR, No. 202), and 10/27/2017 (82 FR, No. 207), the Committee for Purchase From People Who Are Blind or Severely Disabled published notices of proposed addition to the Procurement List.

After consideration of the material presented to it concerning capability of qualified nonprofit agency to provide the products and services and impact of the additions on the current or most recent contractors, the Committee has determined that the products and services listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organization that will provide the products and services to the Government.

2. The action will result in authorizing small entities to provide the products and services to the Government.

3. There are no known regulatory alternatives which would accomplish the objectives of the Javits-Wagner-O'Day Act (41 U.S.C. 8501-8506) in connection with the products and services proposed for addition to the Procurement List.

End of Certification

Accordingly, the following products and services are added to the Procurement List:

Products

NSN—Product Name: 2540-00-678-3469—Chock, Wheel-Track, Wood, 9.5″ x 8″

Mandatory Source of Supply: NewView Oklahoma, Inc., Oklahoma City, OK

Mandatory for: 100% of the requirement of the Department of Defense

Contracting Activity: Defense Logistics Agency Land and Maritime

NSNs—Product Names:

5180-00-NIB-0002—Evidence Kit, Individual Point of Capture

5180-00-NIB-0003—Evidence Kit, Leader Point of Capture

5180-00-NIB-0004—Evidence Kit, Team Evidence Collection

5180-00-NIB-0005—Evidence Kit, Platoon Evidence Collection

Mandatory Source of Supply: Industries for the Blind, Inc., West Allis, WI

Mandatory for: 100% of the requirement of the U.S. Army

Contracting Activity: DEPT OF THE ARMY, W4GG HQ US ARMY TACOM

Services

Service Type: Janitorial Service

Mandatory for: Federal Aviation Administration, Albany System Service Center, Albany ATCT & Base Building, 2415 Tower Lane, Albany, GA

Mandatory Source of Supply: Power Works Industries, Inc., Columbus, GA

Contracting Activity: FEDERAL AVIATION ADMINISTRATION

Service Type: Custodial Service

Mandatory for: U.S. Army Reserve, Melvin Y Mora USARC, Bldgs. 30, 40, 41 & 44, 191 Soldiers Drive, St. Charles, MO

Mandatory Source of Supply: MGI Services Corporation, St. Louis, MO

Contracting Activity: DEPT OF THE ARMY, W6QM MICC FT MCCOY (RC)

Deletions

On 10/10/2017 (82 FR, No. 194), the Committee for Purchase From People Who Are Blind or Severely Disabled published notices of proposed deletions from the Procurement List. After consideration of the relevant matter presented, the Committee has determined that the products and services listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products to the Government.

3. There are no known regulatory alternatives which would accomplish the objectives of the Javits-Wagner-O'Day Act (41 U.S.C. 8501-8506) in connection with the products and services deleted from the Procurement List.

End of Certification

Accordingly, the following products are deleted from the Procurement List:

Products

NSNs—Product Names:

6532-00-159-4881—Smock, Mans Dental Operating

6532-00-926-9964—Smock, Mans Dental Operating

6532-00-926-9975—Smock, Mans Dental Operating

6532-00-926-9976—Smock, Mans Dental Operating

Mandatory Source of Supply: Human Technologies Corporation, Utica, NY

Contracting Activity: Defense Logistics Agency Troop Support

NSNs—Product Names:

5510-00-NSH-0044—Stakes/Lath, Survey, Wood

5510-00-NSH-0045—Stakes/Lath, Survey, Wood

5510-00-NSH-0046—Stakes/Lath, Survey, Wood

5510-00-NSH-0047—Stakes/Lath, Survey, Wood

5510-00-NSH-0048—Stakes/Lath, Survey, Wood

5510-00-NSH-0049—Stakes/Lath, Survey, Wood

5510-00-NSH-0050—Stakes/Lath, Survey, Wood

5510-00-NSH-0051—Stakes/Lath, Survey, Wood

5510-00-NSH-0052—Stakes/Lath, Survey, Wood

5510-00-NSH-0053—Stakes/Lath, Survey, Wood

5510-00-NSH-0054—Stakes/Lath, Survey, Wood

5510-00-NSH-0055—Stakes/Lath, Survey, Wood

5510-00-NSH-0056—Stakes/Lath, Survey, Wood

5510-00-NSH-0057—Stakes/Lath, Survey, Wood

5510-00-NSH-0058—Stakes/Lath, Survey, Wood

5510-00-NSH-0059—Stakes/Lath, Survey, Wood

5510-00-NSH-0060—Stakes/Lath, Survey, Wood

5510-00-NSH-0061—Stakes/Lath, Survey, Wood

5510-00-NSH-0062—Stakes/Lath, Survey, Wood

5510-00-NSH-0063—Stakes/Lath, Survey, Wood

5510-00-NSH-0064—Stakes/Lath, Survey, Wood

5510-00-NSH-0065—Stakes/Lath, Survey, Wood

5510-00-NSH-0066—Stakes/Lath, Survey, Wood

5510-00-NSH-0067—Stakes/Lath, Survey, Wood

5510-00-NSH-0068—Stakes/Lath, Survey, Wood

5510-00-NSH-0069—Stakes/Lath, Survey, Wood

5510-00-NSH-0070—Stakes/Lath, Survey, Wood

5510-00-NSH-0071—Stakes/Lath, Survey, Wood

5510-00-NSH-0072—Stakes/Lath, Survey, Wood

5510-00-NSH-0073—Stakes/Lath, Survey, Wood

5510-00-NSH-0074—Stakes/Lath, Survey, Wood

5510-00-NSH-0075—Stakes/Lath, Survey, Wood

5510-00-NSH-0076—Stakes/Lath, Survey, Wood

5510-00-NSH-0077—Stakes/Lath, Survey, Wood

5510-00-NSH-0078—Stakes/Lath, Survey, Wood

5510-00-NSH-0079—Stakes/Lath, Survey, Wood

5510-00-NSH-0080—Stakes/Lath, Survey, Wood

5510-00-NSH-0081—Stakes/Lath, Survey, Wood

5510-00-NSH-0082—Stakes/Lath, Survey, Wood

5510-00-NSH-0083—Stakes/Lath, Survey, Wood

5510-00-NSH-0084—Stakes/Lath, Survey, Wood

5510-00-NSH-0085—Stakes/Lath, Survey, Wood

5510-00-NSH-0086—Stakes/Lath, Survey, Wood

5510-00-NSH-0087—Stakes/Lath, Survey, Wood

5510-00-NSH-0088—Stakes/Lath, Survey, Wood

5510-00-NSH-0089—Stakes/Lath, Survey, Wood

5510-00-NSH-0090—Stakes/Lath, Survey, Wood

5510-00-NSH-0091—Stakes/Lath, Survey, Wood

5510-00-NSH-0092—Stakes/Lath, Survey, Wood

5510-00-NSH-0093—Stakes/Lath, Survey, Wood

5510-00-NSH-0094—Stakes/Lath, Survey, Wood

5510-00-NSH-0095—Stakes/Lath, Survey, Wood

5510-00-NSH-0096—Stakes/Lath, Survey, Wood

5510-00-NSH-0097—Stakes/Lath, Survey, Wood

5510-00-NSH-0101—Stakes/Lath, Survey, Wood

5510-00-NSH-0102—Stakes/Lath, Survey, Wood

5510-00-NSH-0103—Stakes/Lath, Survey, Wood

5510-00-NSH-0104—Stakes/Lath, Survey, Wood

5510-00-NSH-0105—Stakes/Lath, Survey, Wood

5510-00-NSH-0106—Stakes/Lath, Survey, Wood

Mandatory Source of Supply: Siskiyou Opportunity Center, Inc., Mt. Shasta, CA

Contracting Activity: FOREST SERVICE, KLAMATH NATIONAL FOREST

NSN—Product Name: 8470-00-NSH-0030—Improved Oxygen Harness

Mandatory Source of Supply: Employment Source, Inc., Fayetteville, NC

Contracting Activity: Army Contracting Command—Aberdeen Proving Ground, Natick Contracting Division.

Patricia Briscoe,
Deputy Director, Business Operations, (Pricing and Information Management).

[FR Doc. 2017-25854 Filed 11-30-17; 8:45 am]

BILLING CODE 6353-01-P